COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) to the Procurement List that will be furnished by nonprofit agencies employing persons who are blind or have other severe disabilities, and deletes product(s) and service(s) from the Procurement List previously furnished by such agencies.

DATES: Date added to and deleted from the Procurement List: November 19, 2023.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Additions

On 09/15/2023, the Committee for Purchase From People Who Are Blind or Severely Disabled published notice of proposed additions to the Procurement List. This notice is published pursuant to 41 U.S.C. 8503(a)(2) and 41 CFR 51-2.3.

After consideration of the material presented to it concerning capability of qualified nonprofit agencies to provide the product(s) and impact of the additions on the current or most recent contractors, the Committee has determined that the product(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) to the Government.

2. The action will result in authorizing small entities to furnish the product(s) to the Government.

3. There are no known regulatory alternatives which would accomplish the objectives of the Javits-Wagner-O'Day Act (41 U.S.C. 8501-8506) in connection with the product(s) proposed for addition to the Procurement List.

End of Certification

Accordingly, the following product(s) are added to the Procurement List:

Product(s)

NSN(s)—Product Name(s):

5180-01-563-7475—Tool Kit, Artillery and Turret (ATTK)

Designated Source of Supply: Industries for the Blind and Visually Impaired, Inc., West Allis, WI

Contracting Activity: DEFENSE LOGISTICS AGENCY, DLA AVIATION

Distribution: C-List

Mandatory for: 100% of the requirement of the Department of Defense

Deletions

On 09/15/2023, the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7530-01-618-8427—Cover, Record Book, Digital Camouflage, 6″ x 9″

7510-01-053-5591—Portfolio, Writing, Economy, Black, 9″ x 6-⅛″

7510-00-145-0296—Portfolio, Writing, Economy, Black, 12-⅛″ x 9-½″

7510-01-557-4969—Portfolio, Note Pad Holder, Custom Logo, 6″ x 9″

7510-01-557-4970—Portfolio, Pocket, with Pad, Camouflage, 4″ x 6″

7510-01-557-4979—Portfolio, Note Pad Holder, Army Logo, Camouflage, 6″ x 9″

7510-01-557-4977—Pad Holder Portfolio, Standard, Digital Camouflage, Letter Size

7510-01-557-4978—Portfolio, Note Pad Holder, Camouflage, 6″ x 9″

7510-01-600-8651—Portfolio, Pocket, with Pad, Camouflage, 6″ x 9″

7510-01-557-4980—Portfolio, Pad Holder, Deluxe, Brass Clip and Corners, Camouflage, 6″ x 9″

7510-01-557-4981—Pad Holder Portfolio, Deluxe, Brass Clip and Corners, Digital Camouflage, Letter Size

7510-01-483-8891—Portfolio, Note Pad Holder, Burgundy, 6″ x 9″

7510-01-483-8895—Pad Holder Portfolio, Standard, Burgundy, Letter Size

7510-01-483-8897—Portfolio, Pad Holder, Deluxe, Brass Clip and Corners, Burgundy, 6″ x 9″

7510-01-483-8899—Portfolio, Pad Holder, Deluxe, Brass Clip and Corners, Black, 6″ x 9″

7510-01-483-8890—Portfolio, Note Pad Holder, Black, 6″ x 9″

7510-01-483-8892—Pad Holder Portfolio, Deluxe, Brass Clip and Corners, Burgundy, Letter Size

7510-01-483-8894—Pad Holder Portfolio, Deluxe, Brass Clip and Corners, Black, Letter Size

7510-01-484-0004—Pad Holder Portfolio, Standard, Black, Letter Size

Designated Source of Supply: Dallas Lighthouse for the Blind, Inc., Dallas, TX

Contracting Activity: GSA/FAS ADMIN SVCS ACQUISITION BR 2, NEW YORK, NY

Service(s)

Service Type: Sourcing, Warehousing, Assembly, and Kitting

Mandatory for: USPFO Connecticut, National Guard Bureau, National Guard Armory, 360 Broad Street, Hartford, CT

Designated Source of Supply: Industries for the Blind and Visually Impaired, Inc., West Allis, WI

Contracting Activity: DEPT OF THE ARMY, W7MZ USPFO ACTIVITY CT ARNG

Service Type: Furniture Design, Configuration and Installation

Mandatory for: USPFO Connecticut, National Guard Bureau, National Guard Armory, 360 Broad Street, Hartford, CT

Designated Source of Supply: Industries for the Blind and Visually Impaired, Inc., West Allis, WI

Contracting Activity: DEPT OF THE ARMY, W7MZ USPFO ACTIVITY CT ARNG

Michael R. Jurkowski,
Acting Director, Business Operations.

[FR Doc. 2023-23246 Filed 10-19-23; 8:45 am]

BILLING CODE 6353-01-P